DEPARTMENT OF ENERGY

Federal Energy Regulatory Commission

[Docket No. CP18-89-000]

Empire Pipeline, Inc.; Notice of Schedule for Environmental Review of the Empire North Project

On February 19, 2018, Empire Pipeline, Inc. (Empire) filed an application in Docket No. CP18-89-000 requesting a Certificate of Public Convenience and Necessity pursuant to Section 7(c) of the Natural Gas Act to construct and operate certain natural gas pipeline facilities. The proposed project is known as the Empire North Project (Project), and would provide about 205 million cubic feet per day of incremental firm transportation capacity.

On March 5, 2018, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—November 20, 2018

90-day Federal Authorization Decision Deadline—February 18, 2019

If a schedule change becomes necessary, additional notice will be provided so that the relevant agencies are kept informed of the Project's progress.

Project Description

Empire proposes to construct and operate gas compression facilities in Tioga County, Pennsylvania and Ontario, New York. The Empire North Project would consist of the following facilities:

• A new 21,000 horsepower compressor station in Jackson Township, Tioga County, Pennsylvania;

• a new 32,000 horsepower compressor station in the Town of Farmington, Ontario County, New York;

• modifications of the existing regulator valves and station piping and installation of metering facilities at the existing New Victor Regulator Station in Ontario County, New York;

• minor modifications to the existing Jackson Meter and Regulator Station in Jackson Township, Tioga County, Pennsylvania; and

• upgrading the maximum allowable operating pressure of the Empire Connector Pipeline from 1,290 pounds per square inch gauge (psig) to 1,440 psig.

Background

On April 10, 2018, the Commission issued a Notice of Intent to Prepare an Environmental Assessment for the Proposed Empire North Project and Request for Comments on Environmental Issues (NOI). The NOI was sent to federal, state, and local government representatives and agencies; elected officials; Native American tribes; other interested parties; and local libraries and newspapers. In response to the NOI, the Commission received comments from the New York State Thruway Authority and the U.S. Environmental Protection Agency. The primary issues raised by the commentors are alternatives, accessing the site, the location of a construction staging area near a driveway, cumulative impacts analysis, climate change, air quality, safety, and environmental justice. All substantive comments will be addressed in the EA.

The U.S. Department of Transportation is a cooperating agency in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP18-89), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 17, 2018.
Nathaniel J. Davis, Sr.,
Deputy Secretary.

[FR Doc. 2018-18421 Filed 8-24-18; 8:45 am]

BILLING CODE 6717-01-P